DEPARTMENT OF TRANSPORTATION

Coast Guard

[USCG-2001-9988]

Towing Safety Advisory Committee

AGENCY: Coast Guard, DOT.

ACTION: Notice of public meeting.

SUMMARY: The License Implementation Working Group of the Towing Safety Advisory Committee (TSAC) will meet to discuss and develop the performance criteria to be used with the Towing Officer Assessment Record (TOAR) required in Title 46 Code of Federal Regulation 10.304(h). These performance criteria, when developed, will be announced in the Federal Register and made available for review and comment. Sample TOARs were published on May 21, 2001, as part of the Navigation and Vessel Inspection Circular 4-01 (NVIC 4-01) entitled “Licensing and Manning for Officers of Towing Vessels.” This NVIC provides guidance on the implementation of a recent interim rule with request for comments published in the Federal Register on April 26, 2001 (66 FR 20931; Licensing and Manning for Officers of Towing Vessels, Docket Number: USCG 1999-6224). The NVIC is available on the Internet at http://www.uscg.mil/hq/g-m/nvic/4_01/n4-01.pdf. The rulemaking history is also available on the Internet at http://dms.dot.gov under the same Docket Number. The meetings are open to the public.

DATES: The Working Group will meet on Wednesday, July 25, 2001, from 1 p.m. to 4 p.m., and on Thursday, July 26, 2001, from 8 a.m. to 3 p.m. These meetings may close early if all business is finished. Requests to make oral presentations should reach the Coast Guard on or before July 23, 2001.

ADDRESSES: The Working Group will meet in room 6103 at Coast Guard Headquarters; 2100 Second Street, SW; Washington, DC 20593-0001. Send written materials and requests to make oral presentations to Mr. Gerald P. Miante, Commandant (G-MSO-1); Room 1210, U.S. Coast Guard Headquarters; 2100 Second Street, SW; Washington, DC 20593-0001. This notice is available on the Internet at http://dms.dot.gov.

FOR FURTHER INFORMATION CONTACT: Mr. Gerald P. Miante, Assistant Executive Director, TSAC, telephone 202-267-0229, fax 202-267-4570, or e-mail at: gmiante@comdt.uscg.mil.

SUPPLEMENTARY INFORMATION: Notice of this meeting is given under the Federal Advisory Committee Act, 5 U.S.C. App. 2.

Agenda of Meeting

The agenda includes the Working Group's review of the TOARs and the drafting of performance criteria proposals that will be presented to the full Committee for approval at a later date.

Procedural

This meeting is open to the public. Please note that the meeting may close early if all business is finished. At the Chair's discretion, members of the public may make oral presentations during the meeting. If you would like to make an oral presentation at the meeting, please notify the Assistant Executive Director on or before July 23, 2001.

Information on Services for Individuals with Disabilities

For information on facilities or services for individuals with disabilities or to request special assistance at the meeting, contact the Assistant Executive Director as soon as possible.

Dated: July 2, 2001.
Joseph J. Angelo,
Acting Assistant Commandant for Marine, Safety and Environmental Protection.

[FR Doc. 01-17390 Filed 7-10-01; 8:45 am]

BILLING CODE 4910-15-P